DEPARTMENT OF AGRICULTURE

Forest Service

Trinity County Resource Advisory Committee Meeting

AGENCY: Forest Service, USDA.

ACTION: Notice of meeting.

SUMMARY: The Trinity County Resource Advisory Committee (RAC) will meet at the Trinity County Office of Education in Weaverville California, September 25, 2006. The purpose of this meeting is to discuss proposed projects under Title II of the Secure Rural Schools and Community Self-Determination Act of 2000.

DATES: September 25, 2006.

ADDRESSES: The meeting will be held at the Trinity County Office of Education, 201 Memorial Drive, Weaverville, CA 96093.

FOR FURTHER INFORMATION CONTACT: Michael R. Odle, Public Affairs Officer and RAC Coordinator.

SUPPLEMENTARY INFORMATION: The meetings are open to the public. Public input sessions will be provided and individuals will have the opportunity to address the Shasta County Resource Advisory Committee.

Dated: September 6, 2006.
Susan Jeheber-Matthews,
Deputy Forest Supervisor, Shasta-Trinity National Forest.

[FR Doc. 06-7606 Filed 9-12-06; 8:45 am]

BILLING CODE 3410-11-M